DEPARTMENT OF ENERGY

Federal Energy Regulatory Commission

Combined Notice of Filings

Take notice that the Commission has received the following Natural Gas Pipeline Rate and Refund Report filings:

Filings Instituting Proceedings

Docket Numbers: RP15-250-000.

Applicants: Gulf Crossing Pipeline Company LLC.

Description: § 4(d) rate filing per 154.204: Amendment to Neg Rate Agmt (BP K37-18) to be effective 12/6/2014.

Filed Date: 12/8/14.

Accession Number: 20141208-5205.

Comments Due: 5 p.m. ET 12/22/14.

Docket Numbers: RP15-251-000.

Applicants: Gulf South Pipeline Company, LP.

Description: § 4(d) rate filing per 154.204: Amendment to Neg Rate Agmt (Chevron 41610-4) to be effective 12/8/2014.

Filed Date: 12/8/14.

Accession Number: 20141208-5233.

Comments Due: 5 p.m. ET 12/22/14.

Docket Numbers: RP15-252-000.

Applicants: Iroquois Gas Transmission System, L.P.

Description: § 4(d) rate filing per 154.204: 12/08/14 Negotiated Rates—Cargill Incorporated (RTS) Amend 1 3085-23 to be effective 12/8/2014.

Filed Date: 12/8/14.

Accession Number: 20141208-5301.

Comments Due: 5 p.m. ET 12/22/14.

Docket Numbers: RP15-253-000.

Applicants: Natural Gas Pipeline Company of America.

Description: § 4(d) rate filing per 154.204: Intergrys Energy Negotiated Rate to be effective 1/1/2015.

Filed Date: 12/8/14.

Accession Number: 20141208-5329.

Comments Due: 5 p.m. ET 12/22/14.

Docket Numbers: RP15-254-000.

Applicants: WBI Energy Transmission, Inc.

Description: § 4(d) rate filing per 154.204: Non-conforming Service Agreement—DB Energy Cancellation to be effective 12/31/2014.

Filed Date: 12/8/14.

Accession Number: 20141208-5338.

Comments Due: 5 p.m. ET 12/22/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-977-002.

Applicants: East Cheyenne Gas Storage, LLC.

Description: Compliance filing per 154.203: Amended Compliance Filing in Response to Show Cause Order to be effective 10/16/2014.

Filed Date: 11/26/14.

Accession Number: 20141126-5078.

Comments Due: 5 p.m. ET 12/8/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 9, 2014.
Nathaniel J. Davis, Sr.,
Deputy Secretary.

[FR Doc. 2014-29303 Filed 12-15-14; 8:45 am]

BILLING CODE 6717-01-P